DEPARTMENT OF TRANSPORTATION

Federal Aviation Administration

14 CFR Part 39

[Docket No. FAA-2004-18993; Directorate Identifier 2004-NM-125-AD; Amendment 39-13781; AD 2004-18-03]

RIN 2120-AA64

Airworthiness Directives; Bombardier Model CL-600-2C10 (Regional Jet Series 700 & 701), and CL-600-2D24 (Regional Jet Series 900) Series Airplanes

AGENCY: Federal Aviation Administration (FAA), DOT.

ACTION: Final rule; request for comments.

SUMMARY: The FAA is superseding an existing airworthiness directive (AD) for certain Bombardier Model CL-600-2C10 (Regional Jet Series 700 & 701), and CL-600-2D24 (Regional Jet Series 900) series airplanes. That AD currently requires revising the airplane flight manual to advise the flightcrew to monitor the fuel quantity in the center fuel tank throughout the flight. That AD also requires repetitive tests to detect a fuel leak between the wing fuel tanks and the center fuel tank; and further related investigative and corrective actions, if necessary. For certain airplanes, that AD also requires installation of flexible hoses and brackets in the fuel feed system. This AD reduces the compliance times for the repetitive checks, requires replacement of primary fuel feed ejectors with new ejectors, and provides an optional center fuel tank empty procedure. This AD is prompted by reports of cracking in the primary fuel ejector. We are issuing this AD to detect and correct cracking in any primary fuel ejector, which could cause fuel leakage into the center fuel tank, and could result in engine shutdown during flight.

DATES: Effective September 17, 2004.

The incorporation by reference of certain publications listed in the AD was approved previously by the Director of the Federal Register as of April 15, 2004 (69 FR 16780, March 31, 2004).

We must receive any comments on this AD by November 1, 2004.

ADDRESSES: Use one of the following addresses to submit comments on this AD.

• DOT Docket Web site: Go to http://dms.dot.gov and follow the instructions for sending your comments electronically.

• Government-wide rulemaking Web site: Go to http://www.regulations.gov and follow the instructions for sending your comments electronically.

• Mail: Docket Management Facility, U.S. Department of Transportation, 400 Seventh Street SW., Nassif Building, room PL-401, Washington, DC 20590.

• Fax: (202) 493-2251.

• Hand Delivery: room PL-401 on the plaza level of the Nassif Building, 400 Seventh Street SW., Washington, DC, between 9 a.m. and 5 p.m., Monday through Friday, except Federal holidays.

You can get the service information identified in this AD from Bombardier, Inc., Canadair, Aerospace Group, P.O. Box 6087, Station Centre-ville, Montreal, Quebec H3C 3G9, Canada. You may examine this information at the National Archives and Records Administration (NARA). For information on the availability of this material at NARA, call (202) 741-6030, or go to: http://www.archives.gov/federal_register/code_of_federal_regulations/ibr_locations.html.

You may examine the contents of this AD docket on the Internet at http://dms.dot.gov, or at the Docket Management Facility, U.S. Department of Transportation, 400 Seventh Street SW., room PL-401, on the plaza level of the Nassif Building, Washington, DC.

Docket Management System (DMS)

The FAA has implemented new procedures for maintaining AD dockets electronically. As of May 17, 2004, new AD actions are posted on DMS and assigned a docket number. We track each action and assign a corresponding directorate identifier. The DMS AD docket number is in the form “Docket No. FAA-2004-99999.” The Transport Airplane Directorate identifier is in the form “Directorate Identifier 2004-NM-999-AD.” Each DMS AD docket also lists the directorate identifier (“Old Docket Number”) as a cross-reference for searching purposes.

Examining the Dockets

You can examine the AD docket on the Internet at http://dms.dot.gov, or in person at the Docket Management Facility office between 9 a.m. and 5 p.m., Monday through Friday, except Federal holidays. The Docket Management Facility office (telephone (800) 647-5227) is on the plaza level of the Nassif Building at the DOT street address stated in the ADDRESSES section. Comments will be available in the AD docket shortly after the DMS receives them.

FOR FURTHER INFORMATION CONTACT: James Delisio, Aerospace Engineer, Airframe and Propulsion Branch, ANE-171, FAA, New York Aircraft Certification Office, 1600 Stewart Avenue, Suite 410, Westbury, New York 11590; telephone (516) 228-7321; fax (516) 794-5531.

SUPPLEMENTARY INFORMATION: On March 19, 2004, we issued AD 2004-07-01, amendment 39-13545 (69 FR 16780, March 31, 2004). That AD applies to certain Bombardier Model CL-600-2C10 (Regional Jet Series 700 & 701), and CL-600-2D24 (Regional Jet Series 900) series airplanes. That AD requires revising the airplane flight manual (AFM) to advise the flightcrew to monitor the fuel quantity in the center fuel tank throughout the flight. That AD also requires repetitive tests to detect a fuel leak between the wing fuel tanks and the center fuel tank; and further related investigative and corrective actions, if necessary. For certain airplanes, that AD also requires installation of flexible hoses and brackets in the fuel feed system. That AD was prompted by reports of longitudinal cracks found in a primary fuel ejector on affected airplanes. The actions specified in that AD are intended to detect and correct cracking of the primary fuel ejectors, which could cause fuel leakage into the center fuel tank, and could result in engine shutdown during flight.

Actions Since AD Was Issued

Since we issued that AD, Transport Canada Civil Aviation (TCCA), which is the airworthiness authority for Canada, has issued Canadian airworthiness directive CF-2004-04R2, issued April 16, 2004. The revised Canadian airworthiness directive mandates a revision to the AFM, replacement of certain primary fuel feed ejectors, and operational leak checks of the center tank; and provides for an optional center fuel tank empty procedure.

Relevant Service Information

Bombardier has issued the following temporary revisions (TRs) to the AFM:

• CRJ Regional Jet (Bombardier) TR RJ 700/52-2, dated December 19, 2003, to the Bombardier Model CL-600-2C10 AFM, Document CSP B-012; and

• CRJ Regional Jet (Bombardier) TR RJ 900/10-1, dated December 19, 2003, to the Bombardier Model CL-600-2D24 AFM, Document CSP C-012.

These TRs describe revisions to the Abnormal Procedures section of the AFM to advise the flightcrew to monitor the fuel quantity in the center fuel tank throughout the flight.

Bombardier has also issued CRJ 700/900 Regional Jet Alert Service Bulletin 670BA-28-025, Revision A, dated December 15, 2003. This service bulletin describes procedures for performing repetitive checks to detect fuel leaking between the wing tanks and the center tank. The leak check involves filling the wing fuel tanks with a specified quantity of fuel, and monitoring the amount of fuel increase in the center tank over time. The service bulletin also describes procedures for sending the results of the leak check to the Bombardier Technical Help Desk.

If the amount of fuel increase in the center fuel tank is more than 150 pounds (68 Kilograms (kgs)), the service bulletin describes procedures for further related investigative and corrective actions. The related investigative action involves doing a general visual inspection of the center tank (including the ejectors and fuel system components) to determine the source of the leak. When the source of the leak is found, the corrective action involves replacing any cracked or damaged part with a new part. The service bulletin also includes directions for faxing inspection results and for sending all replaced parts to Bombardier.

For airplanes having serial numbers 10005 through 10065 inclusive, the service bulletin specifies that, before the leak check, flexible hoses and brackets must be installed in the fuel feed system in accordance with CRJ 700 Regional Jet (Bombardier) Service Bulletin 670BA-28-008, Revision C, dated January 23, 2003. These installations are intended to address conditions that can result in fuel line and coupling damage, and leakage due to the combined effects of installation misalignment and vibration.

Accomplishing the actions specified in the service information will adequately address the unsafe condition. TCCA mandated the service information and issued Canadian airworthiness directive CF-2004-04R2, issued April 16, 2004, to ensure the continued airworthiness of these airplanes in Canada.

FAA's Determination and Requirements of This AD

These airplane models are manufactured in Canada and are type certificated for operation in the United States under the provisions of section 21.29 of the Federal Aviation Regulations (14 CFR 21.29) and the applicable bilateral airworthiness agreement. Pursuant to this bilateral airworthiness agreement, the TCCA has kept the FAA informed of the situation described above. We have examined the TCCA's findings, evaluated all pertinent information, and determined that we need to issue an AD for products of this type design that are certificated for operation in the United States. Therefore, we are issuing this AD to detect and correct cracking of the primary fuel ejectors, which could cause fuel leakage into the center fuel tank, and could result in engine shutdown during flight.

This AD requires you to use the service information described previously to perform these actions, except as discussed under the following paragraph.

Differences Among the Canadian Airworthiness Directive, Service Bulletin, and This AD

The Canadian airworthiness directive allows for leak checks to be performed in accordance with CRJ 700/900 Regional Jet (Bombardier) Alert Service Bulletin 670BA-28-025, original issue, dated December 12, 2003; or CRJ 700/900 Regional Jet (Bombardier) Alert Service Bulletin 670BA-28-025, Revision A, dated December 15, 2003. However, this AD requires those actions to be done in accordance with Revision A. Revision A contains significant changes to certain procedures.

Additionally, the Canadian airworthiness directive requires the leak checks to be accomplished “between each flight.” However, we consider that performing the leak check once a day, in addition to requiring use of procedures for operation with the center fuel tank empty for those primary ejectors that exceed 3,500 flight hours, provides an adequate level of safety.

Although the Canadian airworthiness directive specifies that the pilots receive a briefing on the procedure in use for the leak check, this AD does not require that briefing, since the pre-flight procedures associated with performing the leak check should be accomplished by appropriate maintenance personnel.

Although Service Bulletin 670BA-28-025, Revision A, recommends and the Canadian airworthiness directive mandates sending reports of certain findings to the manufacturer, this AD does not include those requirements.

Although Service Bulletin 670BA-28-025, Revision A, includes instructions for sending all damaged parts to the manufacturer, this AD does not include that requirement.

The differences cited above have been coordinated with the TCCA.

Clarification of the Use of Certain Terms

In AD 2004-07-01, we used the term “leak test” for certain requirements. For the purposes of this AD, we have revised the term “leak test” to specify “leak check.” We made this change in order to more closely follow the intent and terminology of the referenced service information and the airworthiness directive issued by the TCCA. We consider that using the term “leak check” will clarify certain requirements.

Change to Existing AD

This AD would retain certain requirements of AD 2004-07-01. Since AD 2004-07-01 was issued, the AD format has been revised, and certain paragraphs have been rearranged. As a result, the corresponding paragraph identifiers have changed in this AD, as listed in the following table:

Revised Paragraph Identifiers
Requirement in AD 2004-07-01 | Corresponding requirement in this AD
paragraph (a) | paragraph (f).
paragraph (b) | paragraph (g).
paragraph (c) | paragraph (h).
paragraph (d) | paragraph (i).

Interim Action

This is considered to be interim action until final action is identified, at which time we may consider further rulemaking.

FAA's Determination of the Effective Date

An unsafe condition exists that requires the immediate adoption of this AD; therefore, providing notice and opportunity for public comment before the AD is issued is impracticable, and good cause exists to make this AD effective in less than 30 days.

Comments Invited

This AD is a final rule that involves requirements that affect flight safety and was not preceded by notice and an opportunity for public comment; however, we invite you to submit any relevant written data, views, or arguments regarding this AD. Send your comments to an address listed under ADDRESSES. Include “Docket No. FAA-2004-18993; Directorate Identifier 2004-NM-125-AD” at the beginning of your comments. We specifically invite comments on the overall regulatory, economic, environmental, and energy aspects of the AD. We will consider all comments received by the closing date and may amend the AD in light of those comments.

We will post all comments we receive, without change, to http://dms.dot.gov, including any personal information you provide. We will also post a report summarizing each substantive verbal contact with FAA personnel concerning this AD. Using the search function of our docket web site, anyone can find and read the comments in any of our dockets, including the name of the individual who sent the comment (or signed the comment on behalf of an association, business, labor union, etc.). You may review the DOT's complete Privacy Act Statement in the Federal Register published on April 11, 2000 (65 FR 19477-78), or you may visit http://dms.dot.gov.

We are reviewing the writing style we currently use in regulatory documents. We are interested in your comments on whether the style of this document is clear, and your suggestions to improve the clarity of our communications with you. You can get more information about plain language at http://www.faa.gov/language and http://www.plainlanguage.gov.

Regulatory Findings

We have determined that this AD will not have federalism implications under Executive Order 13132. This AD will not have a substantial direct effect on the States, on the relationship between the national Government and the States, or on the distribution of power and responsibilities among the various levels of government.

For the reasons discussed above, I certify that the regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this AD. See the ADDRESSES section for a location to examine the regulatory evaluation.

List of Subjects in 14 CFR Part 39

Air transportation, Aircraft, Aviation safety, Incorporation by reference, Safety.

Adoption of the Amendment

Accordingly, under the authority delegated to me by the Administrator, the FAA amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. The FAA amends § 39.13 by removing amendment 39-13545 (69 FR 16780, March 31, 2004) and adding the following new AD:

2004-18-03 Bombardier, Inc. (Formerly Canadair): Docket No. FAA-2004-18993; Directorate Identifier 2004-NM-125-AD; Amendment 39-13781.

Effective Date

(a) This AD becomes effective September 17, 2004.

Affected ADs

(b) This AD supersedes AD 2004-07-01, amendment 39-13545 (69 FR 16780, March 31, 2004).

Applicability

(c) This AD applies to Bombardier Model CL-600-2C10 (Regional Jet Series 700 & 701), and CL-600-2D24 (Regional Jet Series 900) series airplanes; as listed in CRJ 700/900 Regional Jet (Bombardier) Alert Service Bulletin 670BA-28-025, Revision A, dated December 15, 2003; certificated in any category.

Unsafe Condition

(d) This AD was prompted by reports of cracking in the primary fuel ejector. We are issuing this AD to detect and correct cracking in the primary fuel ejector, which could cause fuel leakage into the center fuel tank and could result in engine shutdown during flight.

Compliance

(e) You are responsible for having the actions required by this AD performed within the compliance times specified, unless the actions have already been done.

Requirements of AD 2004-07-01

Airplane Flight Manual (AFM) Revisions

(f) Within 14 days after April 15, 2004 (the effective date of AD 2004-07-01, amendment 39-13545): Revise the Abnormal Procedures section of the Bombardier Model CL-600-2C10 and Model CL-600-2D24 AFM, Documents CSP B-012 and CSP C-012, to include the applicable temporary revisions (TR) specified in paragraphs (f)(1) and (f)(2) of this AD. Thereafter, operate the airplane per the limitations specified in these AFM revisions.

(1) CRJ Regional Jet (Bombardier) TR RJ 700/52-2, dated December 19, 2003, to the Bombardier Model CL-600-2C10 AFM, Document CSP B-012.

(2) CRJ Regional Jet (Bombardier) TR RJ 900/10-1, dated December 19, 2003, to the Bombardier Model CL-600-2D24 AFM, Document CSP C-012.

Note 1: When information identical to that in the applicable TR specified in paragraphs (f)(1) and (f)(2) of this AD has been included in the general revisions of the applicable AFM, the general revisions may be inserted into the AFM, and the TR may be removed from the AFM.

Prior Requirement

(g) For airplanes having serial numbers (S/N) 10005 through 10065, inclusive; prior to accomplishing the leak test required by paragraph (h) of this AD, install flexible hoses and brackets in the fuel feed system in accordance with the Accomplishment Instructions of Bombardier CRJ 700 Regional Jet Service Bulletin 670BA-28-008, Revision C, dated January 23, 2003.

Leak Tests

(h) At the applicable compliance time, for the applicable S/N in Table 1 of this AD, do a leak test between the wing tanks and the center fuel tank in accordance with the Accomplishment Instructions of CRJ 700/900 Regional Jet (Bombardier) Alert Service Bulletin 670BA-28-025, Revision A, dated December 15, 2003. Thereafter, repeat the leak test at intervals not to exceed 450 flight hours.

Table 1.—Leak Test Thresholds
Airplane S/N | Accumulated flight hours (as of April 14, 2004) | Inspection threshold
10005 through 10065, inclusive | More than 2,500 flight hours since accomplishment of the service bulletin in paragraph (g) of this AD | Within 100 flight hours after April 15, 2004.
10005 through 10065, inclusive | 2,500 flight hours or less since accomplishment of the service bulletin in paragraph (g) of this AD | Within 250 flight hours after April 15, 2004.
10003 and 10004; 10066 through 10999, inclusive; and 15001 through 15990, inclusive | 2,500 flight hours or more since the date of issuance of the original Airworthiness Certificate or the date of issuance of the Export Certificate of Airworthiness, whichever occurs first | Within 100 flight hours after April 15, 2004.
10003 and 10004; 10066 through 10999, inclusive; and 15001 through 15990, inclusive | 2,499 flight hours or less since the date of issuance of the original Airworthiness Certificate or the date of issuance of the Export Certificate of Airworthiness, whichever occurs first | Within 450 flight hours after April 15, 2004.

Detailed Inspection and Repair

(i) If, during the leak test required by paragraph (h) of this AD, the amount of fuel increase in the center fuel tank is 150 pounds (68 kilograms (Kgs)) or more: Before further flight, do the further investigative and corrective actions, in accordance with the Accomplishment Instructions of CRJ 700/900 Regional Jet (Bombardier) Alert Service Bulletin 670BA-28-025, Revision A, dated December 15, 2003.

Note 2: For the purposes of this AD, a detailed inspection is “an intensive examination of a specific item, installation, or assembly to detect damage, failure, or irregularity. Available lighting is normally supplemented with a direct source of good lighting at an intensity deemed appropriate. Inspection aids such as mirrors magnifying lenses, etc. may be necessary. Surface cleaning and elaborate procedures may be required.”

New Requirements of This AD

Determination of Flight Hours and Replacement of Primary Fuel Feed Ejectors

(j) Within three days after the effective date of this AD, determine the number of total flight hours on each of the two primary fuel feed ejectors having part number (P/N) T99A38-603.

(1) For any fuel feed ejector with 4,500 or more total flight hours, before further flight, replace it with a new ejector in accordance with Part B of the Accomplishment Instructions of CRJ 700/900 Regional Jet (Bombardier) Alert Service Bulletin (ASB) 670BA-28-025, Revision A, dated December 15, 2003.

(2) For any primary fuel feed ejector with less than 4,500 total flight hours, replace the primary fuel feed ejector, P/N T99A38-603, with a new ejector, in accordance with Part B of the Accomplishment Instructions of CRJ 700/900 Regional Jet (Bombardier) ASB 670BA-28-025, Revision A, dated December 15, 2003, at the later of the times specified in paragraph (j)(2)(i) or (j)(2)(ii) of this AD.

(i) Before the accumulation of 3,500 total flight hours on a primary fuel feed ejector.

(ii) Before the accumulation of 4,500 total flight hours on a primary fuel feed ejector, or within 750 flight hours after the effective date of this AD, whichever occurs first.

(3) Following replacement with a new ejector in accordance with paragraph (j)(2)(i) or (j)(2)(ii) of this AD, primary fuel feed ejectors must be replaced before accumulating 3,500 total flight hours.

Daily Leak Checks or Fuel Tank Empty Procedures

(k) Except as stated in paragraph (l) of this AD, before accumulating 2,000 total flight hours or within 14 days after the effective date of this AD, whichever occurs later, begin doing the actions specified in paragraph (m) or (p) of this AD. Accomplishing the actions specified in paragraph (m) or (p) of this AD ends the leak test (check) requirements of paragraph (h) of this AD.

(l) For any primary fuel feed ejector with 3,500 or more total flight hours as of the effective date of this AD, within 14 days after the effective date of this AD, begin doing the actions specified in paragraph (p) of this AD, and repeat those actions until the ejector is replaced in accordance with paragraph (j) of this AD.

Daily Operational Leak Checks

(m) Once a day, before the first flight of the day: With both engines operating at ground idle or taxi thrust, open both L&R XFER SOV circuit breakers, 1N9 and 2P8, and monitor the fuel quantity of the center fuel tank for five minutes, in accordance with Part A of the Accomplishment Instructions of CRJ 700/900 Regional Jet (Bombardier) ASB 670BA-28-025, Revision A, dated December 15, 2003. For the daily check, the fuel quantity in the center fuel tank must be 4,000 pounds or less.

Note 3: If the center fuel tank contains fuel when doing this check, the following engine indicating and crew alerting system (EICAS) caution message may be displayed: “L XFER SOV and/or R XFER SOV.”

Leak Check Results

(n) Do the actions specified in paragraph (n)(1) or (n)(2) of this AD as applicable.

(1) If the leak check reveals that there is no fuel quantity increase in the center fuel tank or the fuel quantity increase is less than 150 pounds (68 kilograms (kg)): Before further flight, close the circuit breakers in accordance with Part B of the Accomplishment Instructions of CRJ 700/900 Regional Jet (Bombardier) ASB 670BA-28-025, Revision A, dated December 15, 2003.

(2) If the leak check reveals a fuel quantity increase of 150 pounds or more in the center fuel tank: Before further flight, do the investigative and corrective actions in accordance with the procedures specified in Part B of the Accomplishment Instructions of CRJ 700/900 Regional Jet (Bombardier) ASB 670BA-28-025, Revision A, dated December 15, 2003.

Flight Operations Using the Center Fuel Tank Empty Procedure

(o) Before flight operations with the center fuel tank empty procedure, revise the Limitations and Abnormal sections of the AFM to include the following instructions. This may be done by inserting a copy of this AD into the Limitations and Abnormal Procedures sections of the AFM.

(1) Revise the Limitations Section to specify:

“For every flight of each day, check the quantity of fuel in the center fuel tank during pre-flight and post-flight operations.

If the fuel quantity increase from the wing tanks to the center fuel tank is more than 150 pounds (68kg): Before takeoff, turn the airplane over to maintenance to perform corrective actions.”

(2) Revise the Abnormal Procedure section to specify:

“If an abnormal increase of the center fuel tank quantity is detected or the center fuel tank quantity exceeds 600 pounds (272.2 kg) during flight: Immediately perform the actions specified in the Abnormal Procedures Section of CRJ Regional Jet (Bombardier) TR RJ 700/52-2, dated December 19, 2003, to the Bombardier Model CL-600-2C10 AFM, Document CSP B-012; or CRJ Regional Jet (Bombardier) TR RJ 900/10-1, dated December 19, 2003, to the Bombardier Model CL-600-2D24 AFM, Document CSP C-012; as applicable.”

Before Dispatch for Flights Using the Center Fuel Tank Empty Procedure

(p) Before dispatch of airplanes operating with the center fuel tank empty, do the following actions:

(1) If the pre-flight fuel quantity check reveals that the airplane has less than 300 pounds (136.1 kg) of fuel in the center fuel tank and no leak is suspected: Open and collar both L&R XFER SOV circuit breakers, 1N9 and 2P8. The fuel in the center fuel is considered to be unusable.

Note 4: If the center fuel tank contains fuel when dispatching in this condition, the following EICAS caution message may be displayed: “L XFER SOV and/or R XFER SOV.” That message may be removed by scrolling it away.

(2) If the pre-flight fuel quantity check reveals that the center fuel tank quantity is greater than 300 pounds (136.1 kg) and no leak is suspected: Do either (p)(2)(i) or (p)(2)(ii) of this AD at the time specified:

(i) Before dispatch of the airplane: Un-collar and close the SOV circuit breakers 1N9 and 2P8, to transfer the fuel from the center fuel tank to the wing tanks and open and re-collar circuit breakers 1N9 and 2P8.

(ii) Before dispatch of the airplane: Drain (defuel) the center fuel tank, in accordance with Part B of the Accomplishment Instructions of CRJ 700/900 Regional Jet (Bombardier) ASB 670BA-28-025, Revision A, dated December 15, 2003.

Corrective Actions for Center Fuel Tank Empty Procedures

(q) Before takeoff: If the fuel quantity increase from the wing tanks to the center fuel tank is more than 150 pounds (68 kg), as determined in paragraph (n) of this AD, do the investigative and corrective actions in accordance with Part B of the Accomplishment Instructions of CRJ 700/900 Regional Jet (Bombardier) ASB 670BA-28-025, Revision A, dated December 15, 2003.

Abnormal Increase of the Center Fuel Tank Quantity

(r) If an abnormal increase of the center fuel tank quantity is detected or the center fuel tank quantity exceeds 600 pounds (272.2 kg) during flight, after landing and before further flight, do the investigative and corrective actions in accordance with Part B of the Accomplishment Instructions of CRJ 700/900 Regional Jet (Bombardier) ASB 670BA-28-025, Revision A, dated December 15, 2003.

Actions Accomplished Per Previous Releases of Service Bulletins

(s) Actions accomplished before the effective date of this AD in accordance with the following service bulletins are considered acceptable for compliance with the corresponding action in this AD:

(1) Bombardier CRJ 700 Regional Jet Service Bulletin 670BA-28-008, Revision A, dated September 16, 2002; or Revision B, dated October 2, 2002;

(2) CRJ 700/900 Regional Jet (Bombardier) ASB 670BA-28-025, dated December 12, 2003, are considered acceptable for compliance with the corresponding action in this AD.

Reporting and Parts Return Requirement

(t) Although the Accomplishment Instructions of CRJ 700/900 Regional Jet (Bombardier) ASB 670BA-28-025, Revision A, dated December 15, 2003, specify to submit certain information to the manufacturer, and to return damaged parts to the manufacturer; this AD does not include those requirements.

Alternative Methods of Compliance (AMOCs)

(u) The Manager, New York Aircraft Certification Office (ACO), FAA, has the authority to approve AMOCs for this AD, if requested in accordance with the procedures found in 14 CFR 39.19.

Related Information

(v) Canadian airworthiness directive CF-2004-04R2, issued April 16, 2004, also addresses the subject of this AD.

Material Incorporated by Reference

(w) You must use the following documents to perform the actions required by this AD, as applicable, unless the AD specifies otherwise:

Table 2.—Material Incorporated by Reference
Service document | Revision level | Date
Bombardier CRJ 700 Regional Jet Service Bulletin 670BA-28-008 | Revision C | January 23, 2003.
CRJ 700/900 Regional Jet (Bombardier) Alert Service Bulletin 670BA-28-025, excluding Appendix A | Revision A | December 15, 2003.
CRJ Regional Jet (Bombardier) Temporary Revision RJ 700/52-2 to Bombardier CL-600-2C10 Airplane Flight Manual, Document CSP B-012 | Original | December 19, 2003.
CRJ Regional Jet (Bombardier) Temporary Revision RJ 900/10-1 to Bombardier CL-600-2D24 Airplane Flight Manual, Document CSP C-012 | Original | December 19, 2003.

The Director of the Federal Register has previously approved the incorporation by reference of these documents as of April 15, 2004 (69 FR 16780, March 31, 2004). You can get copies of the documents from Bombardier, Inc., Canadair, Aerospace Group, P.O. Box 6087, Station Centre-ville, Montreal, Quebec H3C 3G9, Canada. You can review copies at the Docket Management Facility, U.S. Department of Transportation, 400 Seventh Street, SW., room PL-401, Nassif Building, Washington, DC; or at the National Archives and Records Administration (NARA). For information on the availability of this material at NARA, call (202) 741-6030, or go to: http://www.archives.gov/federal_register/code_of_federal_regulations/ibr_locations.html.

Issued in Renton, Washington, on August 25, 2004.
Ali Bahrami,
Manager, Transport Airplane Directorate, Aircraft Certification Service.

[FR Doc. 04-20014 Filed 9-1-04; 8:45 am]

BILLING CODE 4910-13-P